DEPARTMENT OF STATE

[Public Notice 6608]

Secretary of State's Determination Under the International Religious Freedom Act of 1998

Summary: The Secretary of State designation of “countries of particular concern” for religious freedom violations.

Pursuant to Section 408(a) of the International Religious Freedom Act of 1998 (Pub. L. 105-292), as amended (the Act), notice is hereby given that, on January 16, 2009, the Secretary of State, under authority delegated by the President, has designated each of the following as a “country of particular concern” (CPC) under section 402(b) of the Act, for having engaged in or tolerated particularly severe violations of religious freedom: Burma, China, Eritrea, Iran, North Korea, Saudi Arabia, Sudan, and Uzbekistan.

The Secretary simultaneously designated the following Presidential actions for these CPCs:

For Burma, the existing ongoing arms embargo referenced in 22 CFR 126.1(a), pursuant to section 402(c)(5) of the Act;

For China, the existing ongoing restrictions on exports to China of crime control and detection instruments and equipment, under Public Law 101-246 and the Foreign Relations Authorization Act of 1990 and 1991, pursuant to section 402(c)(5) of the Act;

For Eritrea, the existing ongoing arms embargo referenced in 22 CFR 126.1(a), pursuant to section 402(c)(5) of the Act;

For Iran, the existing ongoing restrictions on United States security assistance in accordance with section 40 of the Arms Export Control Act, pursuant to section 402(c)(5) of the Act;

For North Korea, the existing ongoing restrictions to which North Korea is subject pursuant to sections 402 and 409 of the Trade Act of 1974 (the Jackson-Vanik Amendment), pursuant to section 402(c)(5) of the Act;

For Saudi Arabia, a waiver to “further the purposes of the Act,” pursuant to section 407 of the Act;

For Sudan, the use of the voice and vote of the United States to oppose any loan or other use of the funds of international financial institutions to or for Sudan, consistent with section 1621 of the International Financial Institutions Act, pursuant to section 402(c)(5) of the Act; and

For Uzbekistan, a 180-day waiver to “further the purposes of the Act,” pursuant to section 407 of the Act.

Dated: May 5, 2009.
Kurt D. Donnelly,
Office Director, Office of International Religious Freedom, Department of State.

[FR Doc. E9-10970 Filed 5-8-09; 8:45 am]

BILLING CODE 4710-18-P